DEPARTMENT OF AGRICULTURE

Forest Service

Final Record of Decision for the Revised Land Management Plan for the Grand Mesa, Uncompahgre, and Gunnison National Forests

AGENCY: Forest Service, Agriculture (USDA).

ACTION: Notice of approval of the Revised Land Management Plan for the Grand Mesa, Uncompahgre and Gunnison National Forests.

SUMMARY: Chad Stewart, Forest Supervisor for the Grand Mesa, Uncompahgre, and Gunnison (GMUG) National Forests, Rocky Mountain Region, signed the final Record of Decision (ROD) for the Revised Land Management Plan (LMP) for the GMUG National Forests. The final ROD documents the rationale for approving the Revised LMP and is consistent with the Reviewing Officers' responses to objections and instructions.

DATES: The Revised LMP for the GMUG National Forests will become effective 30 days after the publication of this notice of approval in the Federal Register (36 CFR 219.17(a)(1)).

ADDRESSES: To view the final ROD, Final Environmental Impact Statement (FEIS), Revised LMP, and other related documents, please visit the GMUG National Forests website at: https://www.fs.usda.gov/goto/gmug/forestplan. The Forest Service will also publish a legal notice of approval in the newspaper of record, Grand Junction Daily Sentinel, and post a copy of this legal notice on the GMUG National Forests' website listed above.

FOR FURTHER INFORMATION CONTACT: Samantha Staley, Forest Planner, GMUG National Forests, samantha.j.staley@usda.gov or 970-852-9812.

Individuals who use telecommunication devices for the deaf (TDD) may call the Federal Information Relay Service (FIRS) at 800-877-8339, 24 hours a day, every day of the year, including holidays.

SUPPLEMENTARY INFORMATION: The GMUG National Forests comprise the largest national forest unit in the Rocky Mountain Region. It spans five ranger districts and covers approximately 3.2 million acres across eight counties in southwestern Colorado, stretching from the Uncompahgre Plateau on the west, north to the Grand Mesa, east to the Continental Divide, and south to the San Juan mountains. The GMUG National Forests range in elevation from 5,000 to over 14,000 feet and support diverse ecosystems and uses. The GMUG National Forests contain habitats essential for a wide variety of species and serve as a critical headwater of the Colorado River. The GMUG National Forests also provide opportunities for recreation, timber harvesting, livestock grazing, and mineral development that contribute to the quality of life and economies of the surrounding communities.

The Revised LMP was shaped by the best available scientific information, current laws, and public, governmental, and tribal input. It was developed pursuant to the 2012 Forest Service Planning Rule (36 CFR 219) and will replace the current LMP, which was significantly amended in 1991 following its 1983 release. The Revised LMP includes desired conditions, objectives, standards, guidelines, management approaches, management area allocations, and land suitability for project and activity decision-making, which will guide resource management activities on the GMUG National Forests. It also includes wilderness recommendations, and identifies eligible wild and scenic river segments.

The GMUG National Forests initiated LMP revision in 2017 and engaged with the public and tribal, federal, state, and local governments. The Forests consulted with 20 federally recognized tribes during the planning process, ensuring tribal-related plan direction accurately reflects the GMUG National Forests' trust responsibilities and government-to-government relationship with tribes. Between 2017 and 2021, the GMUG National Forests conducted eight formal public comment and informal public feedback periods. The Forests received and analyzed more than 20,000 public comments. More than 900 people attended 16 in-person and five virtual public open houses, 16 webinars, and several virtual question-and-answer sessions.

A 90-day public comment period on the draft LMP and associated draft EIS was initiated on August 13, 2021, and subsequently extended 14 days. The Forests used these comments to inform and refine the preferred alternative and Revised LMP. A draft ROD, Revised LMP, and FEIS were released on August 30, 2023, initiating a 60-day objection filing period that closed October 30, 2023. The Forest Service received 70 eligible objections, including 14 objections for species of conservation concern. The Reviewing Officers held objection resolution meetings with objectors and interested persons in February 2024. Based on these meetings and a review of the objections, the Reviewing Officer for the list of species of conservation concern issued a written response to objectors on April 11, 2024. The Reviewing Officer for the forest plan issued a written response to objectors on May 16, 2024. The instructions from the Reviewing Officers were addressed in the ROD, Revised LMP, and FEIS.

Cooperating Agencies

The following entities have participated in the planning process as cooperating agencies: Bureau of Land Management; U.S. Agricultural Research Service; U.S. Fish and Wildlife Service; Colorado Department of Agriculture; Colorado Department of Natural Resources; Colorado Parks and Wildlife; Colorado Water Conservation Board; and the following local governments in Colorado—Delta County; Gunnison County; Hinsdale County; Mesa County; Montrose County; Ouray County; Saguache County; San Miguel County; City of Grand Junction; and Town of Crested Butte.

Responsible Official

The Responsible Official for approving the Revised LMP is Chad Stewart, Forest Supervisor, GMUG National Forests. The Responsible Official for approving the list of species of conservation concern is Scott Fitzwilliams, acting Deputy Regional Forester as delegated by Frank Beum, Regional Forester, Rocky Mountain Region.

Dated: May 28, 2024.
Troy Heithecker,
Associate Deputy Chief, National Forest System.

[FR Doc. 2024-12035 Filed 6-13-24; 8:45 am]

BILLING CODE 3411-15-P